DEPARTMENT OF STATE

[Public Notice:10996]

In the Matter of the Designation of the Asa'ib Ahl al-Haq (and other aliases) as a Foreign Terrorist Organization

Based upon a review of the Administrative Record assembled in this matter, and in consultation with the Attorney General and the Secretary of the Treasury, I conclude that there is a sufficient factual basis to find that the relevant circumstances described in section 219 of the Immigration and Nationality Act, as amended (hereinafter “INA”) (8 U.S.C. 1189), exist with respect to Asa'ib Ahl al-Haq, also known as AAH; Asa'ib Ahl al-Haq min Al-Iraq; Asaib al Haq; Asa'ib Ahl Al-Haqq; League of the Righteous; Khazali Network; Khazali Special Group; Qazali Network; The People of the Cave; Khazali Special Groups Network; Al-Tayar al-Risali; and The Missionary Current.

Therefore, I hereby designate the aforementioned organization and its aliases as a foreign terrorist organization pursuant to section 219 of the INA.

This determination shall be published in the Federal Register.

Dated: January 2, 2020.
Michael R. Pompeo,
Secretary of State.

[FR Doc. 2020-00253 Filed 1-9-20; 8:45 am]

BILLING CODE 4710-AD-P